DEPARTMENT OF AGRICULTURE

Forest Service

Dixie Resource Advisory Committee Meeting

AGENCY: Forest Service, USDA.

ACTION: Notice of meeting.

SUMMARY: The Dixie Resource Advisory Committee (RAC) will meet in Cedar City, Utah. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following Web site: http://cloudapps-usda-gov.force.com/FSSRS/RAC_page?id=001t0000002Jcv8AAC.

DATES: The meeting will be held Wednesday, April 6th, 2016 from 9 a.m. to 6 p.m. Mountain Standard Time.

All RAC meetings are subject to cancellation. For status of meeting prior to attendance, please contact the person listed under FOR FURTHER INFORMATION CONTACT.

ADDRESSES: The meeting will be held at 1789 North Wedgewood Lane, Cedar City City, UT 84721, in the Dixie National Forest Supervisors Office, in the SO Conference Room. The meeting will also a have a VTC feed to the Powell Ranger District office, Main Conference room, in Panguitch, UT 84759, with the address of, 225 East Center Street. A conference call line will also be available. The phone number will be 888-844-9904 with an access code of 6404629.

Written comments may be submitted as described under SUPPLEMENTARY INFORMATION. All comments, including names and addresses when provided, are placed in the record and are available for public inspection and copying. The public may inspect comments received at 1789 North Wedgewood Lane, Cedar City, UT 84721. Please call ahead to facilitate entry into the building.

FOR FURTHER INFORMATION CONTACT: Jason Hamilton, Resource Advisory Committee Coordinator, by phone at 435-865-3794 or via email at jdhamilton@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Listen to Dixie Resource Advisory Committee, Title II project proposals, and for the Resource Advisory Committee to vote and recommend projects to be approved by the Designated Federal Officer on the Dixie National Forest.

The meeting is open to the public. The agenda will include time for people to make oral statements of three minutes or less. Individuals wishing to make an oral statement should request in writing by Friday, March 25th, 2016 to be scheduled on the agenda. Anyone who would like to bring related matters to the attention of the committee may file written statements with the committee staff before or after the meeting. Written comments and requests for time to make oral comments must be sent to Jason Hamilton, 1789 North Wedgewood Lane, Cedar City, UT 84721; by email to jdhamilton@fs.fed.us, or via facsimile to 435-865-3791.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: February 26, 2016.
Angelita S. Bulletts,
Forest Supervisor.

[FR Doc. 2016-04969 Filed 3-4-16; 8:45 am]

BILLING CODE 3411-15-P